FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 11, 2011.

A. Federal Reserve Bank of Atlanta (Clifford Stanford, Vice President) 1000 Peachtree Street, NE., Atlanta, Georgia 30309:

1. Thomas Dunlap Lumpkin II, and Peyton White Lumpkin, both in Pinecrest, Florida; to retain voting shares of Biscayne Bancshares, Inc., and thereby indirectly retain voting shares of Biscayne Bank, both in Coconut Grove, Florida.

B. Federal Reserve Bank of Kansas City (Dennis Denney, Assistant Vice President) 1 Memorial Drive, Kansas City, Missouri 64198-0001:

1. Robyn Batson, as sole trustee of The Linda Lake Young Irrevocable Trust, the Lori Lee Young Irrevocable Trust, and the Robyn Elizabeth Batson Irrevocable Trust, all of Broken Bow, Oklahoma, and all as members of the Young Family control group; to retain control of Southeastern Bancshares, Inc., and thereby indirectly retain control of 1st Bank & Trust, both in Broken Bow, Oklahoma.

Board of Governors of the Federal Reserve System, January 24, 2011.
Robert deV. Frierson,
Deputy Secretary of the Board.

[FR Doc. 2011-1776 Filed 1-26-11; 8:45 am]

BILLING CODE 6210-01-P